DEPARTMENT OF DEFENSE

Department of the Air Force

Record of Decision for the Emergency Beddown of the F-22 Formal Training Unit and Associated T-38 Aircraft From Tyndall Air Force Base to Eglin Air Force Base, Florida Special Environmental Assessment

ACTION: Notice of availability of a Record of Decision.

SUMMARY: On April 25, 2019, the United States Air Force signed a Record of Decision (ROD) on the Emergency Beddown of the F-22 Formal Training Unit and Associated T-38 Aircraft from Tyndall Air Force Base to Eglin Air Force Base, Florida, Special Environmental Assessment.

ADDRESSES: For questions regarding this ROD please contact: Mr. Mike Spaits, Eglin AFB Public Affairs Office, 96 TW/PA, 101 West D Avenue, Room 238, Eglin AFB, FL 32542-5499; telephone: (850) 882-2836; or email: spaitsm@eglin.af.mil.

SUPPLEMENTARY INFORMATION: The ROD contains the Air Force's finding that the temporary beddown and continuing operations of 31 F-22 Formal Training Unit (FTU) aircraft and 17 T-38 Talon adversary air support aircraft at Eglin AFB, Florida, is necessary to control the impacts of the emergency created by Hurricane Michael in early October 2018. It also reflects the Air Force's decision to continue the interim beddown and recurring operations of the F-22 FTU and its adversary air support at Eglin AFB, as analyzed in the three timeline-based scenarios of the Proposed Action in the April 2019 Final Special EA, in whole or in part, until it becomes superseded by the full implementation of the decision to be made in the ROD on the Final EIS for its permanent beddown. Additionally, it announces the Air Force's decision to reduce the rate of closed-pattern operations per sortie for both F-22s and T-38s throughout the period of construction-related closure of Runway 12/30.

The decision was based on matters discussed in the F-22 FTU and Associated T-38 Aircraft from Tyndall Air Force Base to Eglin Air Force Base, Florida Special Environmental Assessment (EA), contributions from the public and regulatory agencies, and other relevant factors. Public Notification was published in the Northwest Florida Daily News on February 28, 2019, announcing the availability of the Draft Special EA for a 30-day public review and comment period. The final Special EA and signed ROD are available at the following web page: https://www.leidoseemg.com/eglinf22sea/final_documents.aspx.

Authority: This Notice of Availability is published pursuant to the regulations (40 CFR part 1506.6) implementing the provisions of the National Environmental Policy Act of 1969 (42 U.S.C.. 4321, et seq.) and the Air Force's Environmental Impact Analysis Process (32 CFR parts 989.21(b) and 989.24(b)(7)).

Carlinda N. Lotson,
Acting Air Force Federal Register Liaison Officer.

[FR Doc. 2019-09317 Filed 5-6-19; 8:45 am]

BILLING CODE 5001-10-P